DEPARTMENT OF AGRICULTURE

Submission for OMB Review; Comment Request

March 19, 2014.

The Department of Agriculture will submit the following information collection requirement(s) to OMB for review and clearance under the Paperwork Reduction Act of 1995, Public Law 104-13 on or after the date of publication of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW., Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by April 23, 2014. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Farmers Market Promotion Program (FMPP).

OMB Control Number: 0581-0235.

Summary of Collection: The purposes of the Farmers Market Promotion Program (FMPP) are to increase domestic consumption of agricultural commodities by improving and expanding, assisting in the improvement and expansion, and to develop or aid in the development of new domestic farmers' markets, roadside stands, community-supported agriculture programs, and other direct producer-to-consumer infrastructure. The Farmer-to-Consumer Marketing Act of 1976 (Act) directs USDA to encourage the direct marketing of agricultural commodities from farmers to consumers, and to promote the development and expansion of direct marketing of agricultural commodities from farmers to consumers. The recently authorized Farmer's Market Promotion Program (FMPP) (7 U.S.C. 3005), Section 6 of 7 U.S.C. 3004 directs the Secretary of Agriculture to “carry out a program to make grants to eligible entities for projects to establish, expand, and promote farmers' markets.”

Need and Use of the Information: The Agricultural Marketing Service will review grant application information to determine eligibility of applicants for participation in FMPP, evaluate goals, objectives, work-plans, expected results and budget for the project.

Description of Respondents: Business or other for-profit; Not-for-profit institutions; State, Local or Tribal Government.

Number of Respondents: 1,500.

Frequency of Responses: Recordkeeping; Reporting: One time.

Total Burden Hours: 20,988.

Charlene Parker,
Departmental Information Collection Clearance Officer.

[FR Doc. 2014-06342 Filed 3-21-14; 8:45 am]

BILLING CODE 3410-02-P